ENVIRONMENTAL PROTECTION AGENCY

[FRL-7846-3]

Proposed CERCLA Section 122(h) Administrative Agreement for the Bayonne Barrel & Drum Site, Located in Newark, NJ

AGENCY: Environmental Protection Agency.

ACTION: Notice of Proposed Administrative Settlement and opportunity for public comment.

SUMMARY: The United States Environmental Protection Agency (EPA) is proposing to enter into an administrative settlement to resolve certain claims under the Comprehensive Environmental Response, Compensation, and Liability Act of 1980, as amended (CERCLA). Notice is being published to inform the public of the proposed settlement and of the opportunity to comment.

The settlement requires thirty-seven (37) Settling Parties to make three payments to resolve their liability for EPA's Past Response Costs, defined as those costs incurred through January 31, 2003. The first payment, $500,000, is due within 30 days of the Agreement's effective date. The second, $300,000, is due by January 31, 2005. The third and final payment is due within 540 days of the Agreement's effective date, and will consist of the balance of the Past Response Costs, equal to $2,186,500, except that the last payment will be subject to reduction pursuant to EPA's orphan share policy, based on the value of the work that the Settling Parties have performed and have committed to perform at the Site as of the due date of the final payment. For thirty (30) days following the date of publication of this notice, EPA will receive written comments relating to the settlement. EPA will consider all comments received and may modify or withdraw its consent to the settlement if comments received disclose facts or considerations that indicate that the proposed settlement is inappropriate, improper or inadequate. EPA's response to any comments received will be available for public inspection at EPA Region II, 290 Broadway, New York, New York 10007-1866.

DATES: Comments must be submitted on or before January 10, 2005.

ADDRESSES: Comments should be addressed to Office of Regional Counsel, U.S. Environmental Protection Agency, 17th Floor, 290 Broadway, New York, New York 10007-1866, and should reference: In the Matter of the Bayonne Barrel & Drum Superfund Site, U.S. EPA Region II, CERCLA Docket No. 02-2004-2023. The proposed settlement is available for public inspection at EPA Region II offices at 290 Broadway, New York, New York 10007-1866. To request a copy, please contact the individual identified below.

FOR FURTHER INFORMATION CONTACT: Sarah Flanagan, Assistant Regional Counsel, New Jersey Superfund Branch, Office of Regional Counsel, U.S. Environmental Protection Agency, 17th Floor, 290 Broadway, New York, New York 10007-1866. Telephone: 212-637-3136.

Dated: November 23, 2004.
Kathleen C. Callahan,
Deputy Regional Administrator, Region 2.

[FR Doc. 04-27030 Filed 12-8-04; 8:45 am]

BILLING CODE 6560-50-P